DEPARTMENT OF DEFENSE

Department of the Army; Corps of Engineers

Notice of Availability of a Supplemental Environmental Impact Statement/ Supplemental Environmental Impact Report (SEIS/SEIR) for the Port of Los Angeles Channel Deepening Project, Los Angeles, CA

AGENCY: Department of the Army, U.S. Army Corps of Engineers, DOD.

ACTION: Notice of availability.

SUMMARY: The U.S. Army Corps of Engineers, Los Angeles District (USACE) and the Los Angeles Harbor Department (Port) have prepared a joint Supplemental Environmental Impact Statement/Supplemental Environmental Impact Report (SEIS/SEIR) for the Port of Los Angeles Channel Deepening Project, Los Angeles, California. This Draft SEIS/SEIR describes the affected resources and evaluates the potential impacts to those resources as a result of the Proposed Action and alternatives. The purpose of the Proposed Action is to dispose of approximately 3.0 million cubic yards of dredge material required to complete the Channel Deepening Project and to beneficially reuse the dredge material within the Port of Los Angeles.

Three Alternatives have been analyzed in the Draft SEIS/SEIR, including No Action. Alternative 1, Port Development and Environmental Enhancement was developed with a focus on using dredge material for port development and environmental enhancement and would involve use and development of the following disposal sites: Berths 243-245, the Northwest Slip, CSWH Expansion, the Eelgrass Habitat Area, and LA-2. Alternative 2, Environmental Enhancement and Ocean Disposal was developed with a focus on environmental enhancement related uses of the remaining material and does not include any disposal options associated with port development. Under Alternative 2, dredge material would be disposed at the CSWH Expansion, Eelgrass Habitat Area, LA-2 and the Anchorage Road Soil Storage Site. Under Alternative 3, the No Action Alternative, no further dredging would take place and the Channel Deepening Project would not be completed.

This Notice also serves as the Public Notice/Notice of Availability for the Section 404 Permit under Clean Water Act (CWA). A preliminary application has been received for a Department of the Army permit for the activity described herein. The Corps is considering an application submitted by the Port for a permit, in accordance with Section 404 of the CWA and Section 10 of the Rivers and Harbors Act, to complete dredging activities outside of the Federal Channel and placement of the dredge material in waters of the United States in the Port of Los Angeles.

This SEIS/SEIR would be used by the Corps as part of their application review process. The Corps and the Port independently determined under the National Environmental Policy Act (NEPA) and the California Environmental Quality Act (CEQA), respectively, that there are potential significant environmental impacts associated with the proposed action, and an Environmental Impact Statement and Environmental Impact Report are required.

DATES: Submit comments on or before September 1, 2008.

ADDRESSES: U.S. Army Corps of Engineers, Los Angeles District, CESPL-PD-RN, c/o Joy Jaiswal, P.O. Box 532711, Los Angeles, CA 90053-2325.

FOR FURTHER INFORMATION CONTACT: Ms. Joy Jaiswal, Chief, Ecosystem Planning Section, at (213) 452-3851 or e-mail at Jyotsna.I.Jaiswal@usace.army.mil. Additional Information: This Draft SEIS/SEIR has been filed with the Environmental Protection Agency (EPA) to be published in the Federal Register and is available for a forty-five (45) day public review period. The public review period for the Draft SEIS/EIR will be from July 18, 2008 to September 1, 2008. Please forward your comments on the Draft SEIS/SEIR by mail, email, or fax to the contacts listed below by September 1, 2008.

Ms. Joy Jaiswal, Chief, Ecosystem Planning Section, Attn: Ms. Megan Wong, U.S. Army Corps of Engineers, P.O. Box 532711, Los Angeles, California 90053-2325, Fax: (213) 452-4204, Megan.T.Wong@usace.army.mil; or

Dr. Ralph Appy, Los Angeles Harbor Department (LAHD), 425 South Palos Verdes Street, San Pedro, CA 90731.

SUPPLEMENTARY INFORMATION:

1. Authorization

The Port of Los Angeles Channel Deepening Project was authorized for construction by the Water Resources Development Act of 2000. Construction began in October 2002 and is currently continuing using previously approved disposal areas.

2. Background

The City of Los Angeles Harbor Department (LAHD) administers the Port of Los Angeles. The Port comprises 45 kilometers (28 miles) of waterfront and 3,035 hectares (7,500 acres) of land and water. LAHD administers automobile, container, omni, lumber, cruise ship, liquid and dry bulk terminals, and commercial fishing facilities. For recreational activities the Port of Los Angeles provides slips for 5,000 pleasure craft, sport fishing boats, and charter vessels. Community facilities include a water front youth center, a boat launch ramp, and a public swimming beach. Educational facilities include the Cabrillo Marine Aquarium and the Los Angeles Maritime Museum.

This SEIS/SEIR is a supplement to the 2000 SEIS/SEIR that was prepared for the Channel Deepening Project, which was a supplement to the 1998 Channel Deepening Project EIR and the 1992 Deep Draft Navigation Improvements Project EIS/EIR the modifications required to complete disposal of dredged material from the authorized project. This SEIS/SEIR addresses impacts associated with providing additional disposal capacity of approximately 3 mcy required to complete the Channel Deepening Project. Additional disposal capacity is required to complete the deepening of the navigation channel and berthing areas to −53 feet Mean Lower Low Water (MLLW) at container terminals along the deepened channel and the removal of dredge material that was temporarily used as surcharge at the Southwest Slip. This project meets a public need for safe and efficient commercial navigation.

3. Hearing Process

The Corps Los Angeles District and the Los Angeles Harbor Department (LAHD or Port) will jointly conduct a Public Hearing for the Port of Los Angeles Channel Deepening Project, Los Angeles, California Draft SEIS/SEIR on August 6, 2008 at 6:30 p.m., to receive public comment and assess public concerns regarding the Draft SEIS/SEIR (Corps File Number 2008-00662-AOA). Participation in the Public Hearing by Federal, State and local agencies and other interested organizations and persons are encouraged. This meeting is to be conducted in English and Spanish. Members of the public who wish to communicate and listen entirely in Spanish are encouraged to attend this meeting. The Public Hearing will be held at: Banning's Landing Community Center, 100 East Water Street, Wilmington, CA 90744.

4. Availability of the Draft SEIS/SEIR

a. The Draft SEIS/SEIR for the Proposed Action is being distributed directly to agencies, organizations, and interested groups and persons for comment during the 45-day formal review period in accordance with Section 15087 of the State CEQA Guidelines and 40 CFR Section 1506.10 of the CEQ NEPA Regulations. During the 45-day public review period, which begins on July 18, 2008 and ends on September 1, 2008, the Draft SEIS/SEIR is available for general public review at the following locations:

U.S. Army Corps of Engineers, Los Angeles District, Environmental Resources Branch, 915 Wilshire Blvd., 14th Floor, Los Angeles, CA 90053

Los Angeles Public Library, San Pedro Branch, 921 South Gaffey Street, San Pedro, CA 90731

Los Angeles Public Library, Central Branch, 630 West 5th Street, Los Angeles, CA 90071

Port of Los Angeles, Environmental Management Division, 425 South Palos Verdes Street, San Pedro, CA 90731

Los Angeles Public Library, Wilmington Branch, 1300 North Avalon Boulevard, Wilmington, CA 90744

b. Participation of affected Federal, State, and local resource agencies, and concerned interest groups/individuals are encouraged on the Draft SEIS/SEIR during the public review period. Public participation will be especially important in receiving input on environmental analysis for the Proposed Action, and associated Alternatives in finalizing the SEIS/SEIR. Those wishing to provide comments relevant to the environmental or social impacts that should be included or considered in updating the environmental analysis can furnish this information by writing to the point of contact indicated above.

c. The Final SEIS/SEIR document will incorporate public concerns in the analysis of impacts associated with the Proposed Action and associated project alternatives. The Final SEIS/SEIR will address the comments received on the Draft SEIS/SEIR. In compliance with NEPA, the Final SEIS/SEIR will be sent out for a 30-day public review period. Copies of the Final SEIS/SEIR will be furnished to all who commented on the Draft SEIS/SEIR and to anyone who requests a copy. The final step involves preparing and signing a Record of Decision (ROD) by lead Federal Agency for the Federal SEIS. The lead CEQA agency certifies the SEIR and adopts a Mitigation Monitoring and Reporting Plan. The ROD is a concise summary of the decisions made by the USACE from among the alternatives presented in the Final SEIS/SEIR. A certified SEIR indicates that the environmental document adequately assesses the environmental impacts of the proposed project with respect to CEQA. Any required permit would be issued concurrently or soon after the issuance of the ROD.

Dated: July 9, 2008.
Anthony G. Reed,
Lieutenant Colonel, U.S. Army, Deputy District Commander.

[FR Doc. E8-16458 Filed 7-17-08; 8:45 am]

BILLING CODE 3710-KF-P